DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Obligated Service for Mental Health Traineeships: Regulations (42 CFR part 62a) and Forms—(Extension, no change; OMB No. 0930-0074)—SAMHSA's Center for Mental Health Services (CMHS) awards grants to institutions for training instruction and traineeships in mental health and related disciplines. Graduate student recipients of these clinical traineeships must perform service, as determined by the Secretary to be appropriate in terms of the individual's training and experience, for a length of time equal to the period of support. The clinical trainees are required to submit SAMHSA Form SMA 111, a payback agreement, SAMHSA Form 111-1, which ensures agency receipt of a termination notice prior to the end of support, and the SAMHSA Form SMA 111-2, which is an annual report on employment status and any changes in name and/or address, to SAMHSA. The burden estimate is provided below.

42 CFR citation and associated forms | Number of respondents | Responses per respondent | Average burden per response (hrs.) | Annual burden (hrs.)
64a.104 SMA 111,111-1 | 50 | 1 | .10 | 5
64a.105(b)(2) SMA 111-2 | 500 | 1 | .18 | 90
Total | 550 |  |  | 95

Send comments to Nancy Pearce, SAMHSA Reports Clearance Officer, Room 16-105, Parklawn Building, 5600 Fishers Lane, Rockville, MD 20857. Written comments should be received within 60 days of this notice.

Dated: September 29, 2000.
Richard Kopanda,
Executive Officer, SAMHSA.

[FR Doc. 00-25686 Filed 10-5-00; 8:45 am]

BILLING CODE 4162-20-P